DEPARTMENT OF COMMERCE

Foreign-Trade Zones Board

[B-28-2018]

Foreign-Trade Zone (FTZ) 37—Orange County, New York; Notification of Proposed Production Activity; Takasago International Corp. (U.S.A.) (Fragrances); Harriman, New York

Takasago International Corp. (U.S.A.) (Takasago) submitted a notification of proposed production activity to the FTZ Board for its facility in Harriman, New York. The notification conforming to the requirements of the regulations of the FTZ Board (15 CFR 400.22) was received on April 30, 2018.

Takasago already has authority to produce fragrances within Site 10 of FTZ 37. The current request would add additional foreign status components of essential oils and aromatic chemicals to the scope of authority. Pursuant to 15 CFR 400.14(b), additional FTZ authority would be limited to the specific foreign-status components described in the submitted notification (as described below) and subsequently authorized by the FTZ Board.

Production under FTZ procedures could exempt Takasago from customs duty payments on the foreign-status components used in export production. On its domestic sales, for the foreign-status components noted below, Takasago would be able to choose the duty rate during customs entry procedures that applies to fragrances (duty-free). Takasago would be able to avoid duty on foreign-status components which become scrap/waste. Customs duties also could possibly be deferred or reduced on foreign-status production equipment.

The materials/components sourced from abroad include: Decanoyl and Octanoyl Glycerides; Beeswax Absolute; Cinnamyl Isovalerate; Camphene; Farnesene; Galbanolene Super (Ethyl Citrate); Ocimene; Dimethyl Benzyl Carbinol; Lily Propanol; Phenyl Ethyl Methyl Ethyl Carbinol; Grapefruit Pentanol; Styrallyl Alcohol; Isobutyl Benzyl Carbinol; Diola; Woody Epoxide; Ocimene Oxirane; Rhubarb Oxirane; Caryophyllene Oxide; Citral Dimethyl Acetal Extra; Elintaal Forte; Floropal; Hyacinth Body; Hydratropic Aldehyde; Hydratropic Aldehyde Dimetheyl Acetal; Indoletal; Karanal; Methyl Pamplemousse; Octacetal; Phenyl Acetald Glyceryl Acetal; Syvertal; Phenyl Ethyl Acetal; Alpha-Amyl Cinnamic Aldehyde; 2(1)-Orris Butanal; Cinnamic Aldehyde; Cyclovertal; Muguet Carbaldehyde; Dupical; Floralozone; Hexyl Cinnamic Aldehyde; Hydroxyambran; Iso Cyclo Citral; Alpha-Methyl Cinnamic Aldehyde; Mefranal; Perilla Aldehyde; Para-Tolyl Aldehyde; Ligustral; Vernaldehyde; Hinokitiol Crystal; Methyl Lavender Ketone; Citronellyl Isovalerate; Para-Cresyl Isobutyrate; Dimethyl Benzyl Carbinyl Butyrate; Geranyl Butyrate; Isoamyl Butyrate; Isoamyl Isobutyrate; Isobutyl Lignate; Linalyl Butyrate; Methyl Isovalerate; Phenyl Ethyl Pivalate; Methyl Cinnamate; Phenyl Ethyl Cinnamate; Benzyl Cinnamate; Diethyl Tartrate; Methyl Jasmonate; Ethyl 3-Hydroxy Butyrate; Ethyl Levulinate; Ethyl Decadienoate; Methyl Dihydrojasmonate; Allyl Amyl Glycolate; Berry Hexanoate; Aurantiol Pure; Agrumea; Lyrame; Methional; Corps Pamplemousse; Dibutyl Sulfide; Dimethyl Sulfide; 2-Methyl-4-Propyl-1 3-Oxathiane; Ambrettolide; Gamma-Decalactone; Jasmolactone; Delta-Octalactone; Cyclohexyl Lactone; Delta-Decalactone; Gamma-Decalactone; Cyclopentadecanolide; Gamma-Heptalactone; Gamma-Hexalactone; Jasmin Lactone; Lactone of CIS Jasmone; Lactone of Dihydro Jasmone; Musk R-1; Delta-Nonalactone; Delta-Undecalactone; Gamma-Undecalactone; Gamma-Valerolactone; Whiskey Lactone (Methyl Octalactone); Gamma-Nonalactone; Methyl Nonyl Acetaldehyde; Watermelon Ketone; Dulcinyl; Galaxolide Pure; Galaxolide 50% Dipropylene Glycol; Methyl Dioxolan; Woody Dioxolane; Spirambrene; Floropal; Glycolierral; Grisalva; Gyrane; Ocean Propanal; Floral Pyranol; Maltol Isobutyrate; Magnolan; 10-Oxahexadecanolide; Pelargene; Rose Oxide; Reseda Body; Laevo Rose Oxide; Isobutyl Quinoline; Isopropyl Quinoline; 2-Isobutyl Quinoline; Marine Pyridine; Mandarin Oil Cravo Brazil; Orange Juice Carbonyls Low Valencene; Orange Oil Terpenes; Neroli Oil; Orange Isolate; Linalool; Orange Flower Absolute Carbon Dioxide; Orange Sweet Oil; Orange Leaf Water Tunisia Absolute Natural; Tangerine Oil; Orange Bigarade (Bitter) Molecular Distilled; Peppermint Oil Chinese Natural; Benzoin Resin Siam Natural; Benzoin Resin Sumatra Super Natural; Elemi Gum; Ginger Oil Indian; Hydrocarboresin; Myrrh Resin; Myrrh Resin Coeur; Oakmoss Absolute; Opoponax Oil; Styrax Oil; Tolu Balsam (Benzoic Acid); Nutmeg Oil; Ambroxide; Iris Pallida; and, Opoponax Resin Natural Extract (duty rate ranges from duty-free to 6.5%, as well as 8.8 ¢/kg).

Public comment is invited from interested parties. Submissions shall be addressed to the Board's Executive Secretary at the address below. The closing period for their receipt is June 18, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov at 202-482-1378.

Dated: May 2, 2018.
Andrew McGilvray,
Executive Secretary.

[FR Doc. 2018-09635 Filed 5-4-18; 8:45 am]

BILLING CODE 3510-DS-P